ENVIRONMENTAL PROTECTION AGENCY

40 CFR Part 52

[MO 095-1095; FRL-6537-2]

Approval and Promulgation of Implementation Plans; State of Missouri

AGENCY: Environmental Protection Agency (EPA).

ACTION: Proposed rule.

SUMMARY: EPA is proposing to approve Missouri's 15% Rate-Of-Progress Plan (ROPP), including rule 10 CSR 10-5.300, “Control of Emissions from Solvent Metal Cleaning.” This plan is intended to fulfill the requirements of section 182(b)(1)(A) of the Clean Air Act (CAA or the Act).

DATES: Comments must be received on or before March 20, 2000.

ADDRESSES: All comments should be addressed to Royan W. Teter, Air Planning and Development Branch, 901 North 5th Street, Kansas City, Kansas 66101.

Copies of the state submittal are available at the following addresses for inspection during normal business hours: Environmental Protection Agency, Air Planning and Development Branch, 901 North 5th Street, Kansas City, Kansas 66101; and the Environmental Protection Agency, Air and Radiation Docket and Information Center, Air Docket (6102), 401 M Street, S.W., Washington, D.C. 20460.

FOR FURTHER INFORMATION CONTACT: Royan W. Teter at (913) 551-7609.

SUPPLEMENTARY INFORMATION: Throughout this document whenever “we, us, or our” is used, we mean EPA. This section provides additional information by addressing the following questions:

What is a State Implementation Plan (SIP)?

What is the Federal approval process for a SIP?

What does Federal approval of a state regulation mean to me?

What is being addressed in this document?

Have the requirements for approval of a SIP revision been met?

What action is EPA taking?

What Is an SIP?

Section 110 of the CAA requires states to develop air pollution regulations and control strategies to ensure that state air quality meets the national ambient air quality standards (NAAQS) established by EPA. These ambient standards are established under section 109 of the CAA, and they currently address six criteria pollutants. These pollutants are: carbon monoxide, nitrogen dioxide, ozone, lead, particulate matter, and sulfur dioxide.

Each state must submit these regulations and control strategies to EPA for approval and incorporation into the Federally enforceable SIP.

Each Federally approved SIP protects air quality primarily by addressing air pollution at its point of origin. These SIPs can be extensive, containing state regulations or other enforceable documents and supporting information such as emission inventories, monitoring networks, and modeling demonstrations.

What Is the Federal Approval Process for a SIP?

In order for state regulations to be incorporated into the Federally enforceable SIP, states must formally adopt the regulations and control strategies consistent with state and Federal requirements. This process generally includes a public notice, public hearing, public comment period, and a formal adoption by a state-authorized rulemaking body.

Once a state rule, regulation, or control strategy is adopted, the state submits it to EPA for inclusion into the SIP. EPA must provide public notice and seek additional public comment regarding the proposed Federal action on the state submission. If adverse comments are received, they must be addressed prior to any final Federal action by EPA.

All state regulations and supporting information approved by EPA under section 110 of the CAA are incorporated into the Federally approved SIP. Records of such SIP actions are maintained in the Code of Federal Regulations (CFR) at Title 40, Part 52, entitled “Approval and Promulgation of Implementation Plans.” The actual state regulations which are approved are not reproduced in their entirety in the CFR outright but are “incorporated by reference,” which means that EPA has approved a given state regulation with a specific effective date.

What Does Federal Approval of a State Regulation Mean to Me?

Enforcement of the state regulation before and after it is incorporated into the Federally approved SIP is primarily a state responsibility. However, after the regulation is Federally approved, EPA is authorized to take enforcement action against violators. Citizens are also offered legal recourse to address violations as described in the CAA.

What Is Being Addressed in This Document?

Background

Ozone, the main ingredient of smog, presents a serious air quality problem in many parts of the United States. Even at low levels, ozone can cause a number of respiratory effects. It is formed when pollutants emitted by cars, power plants, chemical plants, and other sources react chemically in the presence of sunlight. It is of most concern during the summer months when weather conditions needed to form ozone normally occur. To protect the public against the harmful effects of ozone, EPA is required to establish NAAQS. These standards specify levels of air quality that are requisite to the protection of public health and welfare. When these standards are violated, EPA may designate certain areas as “nonattainment.”

The St. Louis area was designated nonattainment for ozone in 1978. On November 6, 1991, EPA promulgated a regulation which classified the St. Louis area as a moderate ozone nonattainment area based on its design value of 0.138 parts per million. The nonattainment area consists of Madison, Monroe, and St. Clair counties in Illinois; and Franklin, Jefferson, St. Charles, and St. Louis counties and St. Louis city in Missouri.

Section 182(b)(1)(A) of the Act requires that each state in which all or part of a moderate ozone nonattainment area is located submit, by November 15, 1993, a SIP revision providing for a 15 percent reduction in emissions of volatile organic compounds (VOC) by November 15, 1996. These plans are commonly referred to as ROPPs. The required 15 percent reduction is to be measured from calendar year 1990 baseline emissions and be “net” of any growth in VOC emissions that occurs in the nonattainment area between November 15, 1990, and November 15, 1996. In other words, VOC emissions must be reduced by 15 percent of 1990 baseline levels, and any increase in VOC emissions beyond the baseline must be offset through further reductions. Most reductions are creditable toward the 15 percent reduction requirement, with the exception of reductions achieved by the Federal Motor Vehicle Control Program (FMVCP) promulgated prior to 1990; reductions from requirements to lower the Reid Vapor Pressure (RVP) of gasoline promulgated prior to 1990 or required under section 211(h) of the Act which restricts gasoline RVP; reductions from corrections to an existing vehicle inspection and maintenance (I/M) program; and reductions from corrections to reasonably available control technology (RACT) rules.

Missouri's first administratively complete ROPP was submitted to EPA in 1995. On March 18, 1996, we proposed a limited approval and limited disapproval of Missouri's ROPP (61 FR 10968). In general, EPA proposed approval of the stationary source control rules on which the state relied for a portion of the required VOC reductions. The primary reason for the proposed limited disapproval at that time was the lack of funding for the I/M program which is a critical part of the ROPP. In the same notice, we also proposed to conditionally approve the state's municipal solid waste landfill and clean up solvent rules, two components of the ROPP. On July 2, 1997, we issued a subsequent proposal to approve Missouri's landfill and gasoline RVP rules as they had been appropriately revised. Final action on all but one (10 CSR 10-5.220 relating to gasoline storage, loading, and transfer) of the stationary source regulations contained in the 1995 version of the ROPP, which are also utilized in the ROPP which is the subject of this proposal, will be taken in a separate rulemaking. We must issue a new proposal on rule 10 CSR 10-5.220, as it has been substantially revised.

We are not taking final action on rule 10 CSR 10-5.443, “Control of Gasoline Reid Vapor Pressure.” Since the March 18, 1996 proposal, the Missouri portion of the St. Louis ozone nonattainment area has become subject to the requirements of the Federal reformulated gasoline (RFG) program, and the state has substituted the RFG reductions for those achieved by the RVP rule. The state intends to rescind the St. Louis RVP rule.

On November 12, 1999, Missouri submitted a revised ROPP which is significantly different from the previous version. As such, it would not be appropriate to take final action on portions of the previous plan which have been superceded by the current plan. Therefore, EPA is initiating rulemaking on the revised ROPP with the publication of today's proposal. EPA's action on the ROPP is limited to rule 10 CSR 10-5.300 and the estimated reductions from all control measures. EPA is publishing separate rulemakings on the other rules which form the basis for the state's ROPP. This document provides an overview of the calculations which determine the target level of VOC emissions, the amount by which VOC emissions must be reduced to meet the emissions target, the control measures Missouri has selected to achieve the required reductions, and our rationale for the proposed approval of the state's overall plan. For a more detailed assessment of the ROPP, the reader is referred to our Technical support document (TSD), a copy of which can be found in the docket.

Technical Review

1. Calculation of the Emissions Target and Required Reductions

Calculating the 1996 target level of VOC emissions and the total reductions necessary to achieve the target level involves applying a step-by-step procedure set forth in the EPA document, “Guidance on the Adjusted Base Year Emissions Inventory and the 1996 Target for the 15 percent Rate of Progress Plan.” Missouri has correctly applied the specified procedure and has determined that the target level of VOC emissions is 265.11 tons per day (TPD). Emissions reductions of 64.65 TPD are necessary to achieve the target. A detailed review of the calculations can be found in the TSD.

2. ROPP Control Measures

The Missouri Department of Natural Resources (MDNR) reviewed a broad range of potential VOC control options for inclusion in the St. Louis ROPP. The final control measures were selected based on several considerations including the number and size of potentially impacted facilities. The control measures selected were those that: (1) Were being proposed at the federal level; (2) achieved the largest VOC emissions reductions with the least lead time; (3) were judged to be most cost effective in terms of dollars spent per ton of emissions reductions achieved; and (4) could be most efficiently enforced.

The final 15% Plan control measures and associated emission reduction credits are summarized in the table below. Note that the listed reductions associated with I/M and RFG are approximations. The MOBILE model does not lend itself to isolating the credit from individual control programs when multiple programs are simulated because their effects are synergistic. A subsequent table will consider the mobile source controls in total and show that when combined with the remaining controls measures, the state will meet its VOC emissions target of 265.11 TPD.

VOC Control Strategies
[15% Target VOC Reduction=64.65 TPD]
MOBILE CONTROL OPTIONS
Centralized Enhanced I/M (Gateway Clean Air Program) | 19.82
Reformulated Gasoline (RFG) | 12.46
Nonroad RFG Benefits | 2.62
Fuel Distribution Benefits | 0.76
Tier I Standards | 0.60
Transportation Control Measures (TCMs) | 2.08
Subtotals | 39.06
POINT/AREA SOURCE CONTROL OPTIONS
Hazardous Organic NESHAPs | 0.08
Solvent Cleaning | 0.91
Petroleum Liquid Storage, Loading, and Transfer | 4.20
Open Burning Ban | 2.60
Voluntary Reductions | 0.14
Landfill Gases | 1.48
Alumax Foils, Inc. | 3.00
Slay Bulk Terminal | 0.74
Architectural and Industrial Maintenance (AIM) Coatings (pending) | 3.05
Automobile Refinishing | 0.78
Federal Nonroad Small Engine Standards | 1.22
Consumer/Commercial Products Solvent Control | 3.27
Permanent Plant Closings | 3.48
Solvent Metal Cleaning | 0.64
Subtotals | 25.59
Total Reductions | 64.65

A. RACT Fix-ups

Section 182(a)(2)(A) of the Act requires states to make corrections to their RACT rules to make up for deficiencies (e.g., improper exemptions) in existing SIPs. The emissions reductions associated with corrections accounting for missing rules, incorrect emission limits, or required capture systems are not creditable towards the 15 percent reduction requirements of the Act; however, the amount of emissions reductions from such corrections must still be quantified as they are a part of the total required reductions. What follows is a discussion regarding Missouri's RACT fix-ups and the associated emissions reductions.

(1) Aluminum Foil Rolling [10 CSR 10-5.451]

Rolling lubricant is used to lubricate aluminum foil as it passes through the mill. The lubricant helps to evenly distribute heat generated by the rolling process and ensures the final product is of uniform thickness. During the process, the rolling lubricant is volatilized and emitted to the atmosphere. Prior to 1989, EPA did not consider such rolling lubricants to be VOC because of their low vapor pressure. In 1989, EPA revised its definition of VOC, removing the exemption for low vapor pressure organics.

Alumax Foils Inc., located within the city of St. Louis, emits approximately 12.5 TPD of VOCs during the production of aluminum foil. Prior to the change in the definition of VOC, the facility was not considered a large source of VOC emissions. Under the new definition, Alumax is a major source of VOCs as defined in the CAA and is therefore subject to the RACT provisions of the Act. MDNR developed a rule for aluminum foil rolling, 10 CSR 10-5.451, “Control of Emissions from Aluminum Foil Rolling.” In addition to addressing the RACT requirements for such facilities, the rule also requires more stringent controls for large aluminum foil rolling mills. The rule was adopted by the MACC, after proper notice and public hearing, on June 29, 1995, and became effective November 30, 1995.

We concur with Missouri's estimate that the RACT portion of the rule will achieve VOC reductions of 0.30 TPD through the use of low vapor pressure rolling lubricant and enhanced recordkeeping and operating procedures. We also concur with the state's estimate that the rule's increased stringency will result in additional VOC reductions of 3.0 TPD.

(2) Bakery Ovens [10 CSR 10-5.440]

During 1993, MDNR determined that Continental Baking Company was a major source that was previously unregulated with respect to RACT as required by the CAA. In response, MDNR has promulgated a regulation that will control the VOC emissions from this bakery to RACT levels. The rule, 10 CSR 10-5.440, “Control of Emissions from Bakery Ovens,” was effective May 28, 1995. A subsequent amendment became effective December 30, 1996. The rule will require the facility to install a control device to achieve an overall VOC emission reduction of 98 percent from its baking ovens. The VOC emissions reductions achieved by this regulation amount to 0.20 TPD.

(3) Offset Lithographic Printing [10 CSR 10-5.442]

Offset lithography is a planographic method of printing, i.e., the printing and nonprinting areas are essentially in the same plane on the surface of a thin metal printing plate. The distinction between the two areas is maintained chemically. The image area is rendered water repellent, and the nonimage area is rendered water receptive. The printing substrate is either fed in a web (continuous roll) or a sheet-fed system. VOCs are emitted from several sources involved in this type of operation. Inks, fountain solutions (alcohol solutions), and cleanup solvents are the primary sources of VOC.

The offset lithography rule will result in a reduction of 0.80 TPD of VOC emissions. A reduction of this magnitude represents approximately a 57 percent decrease in emissions from major point sources within this industrial sector after including adjustments for rule effectiveness. The regulation will limit fountain solution alcohol usage, require the use of low VOC or low vapor pressure cleanup solvents, and require add-on control equipment for heatset web offset presses with actual VOC emissions greater than 10 tons per year (TPY). The control measures in the rule were derived from a draft control technique guideline document developed by EPA.

(4) Wood Furniture Manufacturing [10 CSR 10-5.530]

This new rule, 10 CSR 10-5.530, “Control of Volatile Organic Compound Emissions From Wood Furniture Manufacturing Operations,” limits the VOC emissions from wood furniture manufacturing operations. The rule applies to all wood furniture manufacturing installations in the St. Louis nonattainment area that have the potential to emit (VOC) in quantities equal to or greater than 25 TPY. The national emissions standards for hazardous air pollutants (NESHAP) requirements were considered in establishing RACT control levels. The emission limits are based on two referenced control technologies: waterborne topcoats, and higher-solids sealers and topcoats. VOC emissions from affected facilities are expected to be reduced by 0.06 TPD.

A public hearing on this regulation was held on September 23, 1999, and it was adopted by the MACC on October 28, 1999. It will be effective on February 29, 2000.

(5) Batch Processes [10 CSR 10-5.540]

Rule 10 CSR 10-5.540, “Control of Emissions from Batch Process Operations,” limits emissions of VOC from batch process operations. The rule regulates all batch process operations that have a potential to emit greater than or equal to 100 TPY of VOC. The control requirements in this rule shall apply to process vents associated with batch operations at sources falling into seven specific standard industrial classification codes. The control requirements will not apply to certain single unit operations and batch process trains that are considered to be de minimis. However, these single unit operations and batch process trains will be required to follow the recordkeeping and reporting requirements listed in the rule. The rule establishes formulas for determining applicability and test methods for determining compliance. The VOC emission reduction estimates are based on EPA guidance documents. Assuming a 20 percent VOC reduction from affected sources, total VOC reductions amount to 0.05 TPD.

A public hearing regarding this regulation was held on September 23, 1999, and it was adopted by the MACC on October 28, 1999. It will be effective on February 29, 2000.

(6) Reactor and Distillation Operations [10 CSR 10-5.550]

Rule 10 CSR 10-5.550, “Control of Volatile Organic Compound Emissions from Reactor Processes and Distillation Operations Processes in the Synthetic Organic Chemical Manufacturing Industry,” requires RACT for control of VOC emissions from any vent stream originating from a process unit in which a reactor process or distillation operation is located. The rules requirements are consistent with those established in EPA's “Control Techniques Guideline (CTG) for Control of Volatile Organic Compound Emissions from Reactor Processes and Distillation Operations Processes in the SOCMI Industry” (EPA-450/4-91-031), published in August 1993. VOC reductions from the affected sources are estimated to be 0.28 TPD based upon information provided by the affected sources as part of the annual requirement to submit completed Emission Inventory Questionnaires to the state.

A public hearing on this regulation was held on September 23, 1999, and it was adopted by the MACC on October 28, 1999. It will be effective on February 29, 2000.

(7) Volatile Organic Liquid (VOL) Storage [10 CSR 10-5.500]

Rule 10 CSR 10-5.500, “Control of Emissions from Volatile Organic Liquid Storage,” limits the VOC emissions from installations with VOL storage vessels. More specifically, this rule shall apply to all storage containers of VOL with a maximum true vapor pressure of one-half pound per square inch or greater in any stationary tank, reservoir, or other container of forty thousand gallon capacity or greater, with certain exceptions. Certain control equipment will be required, e.g., internal floating roofs, door and vent gaskets, pressurized tanks, and closed vent systems to control VOC vapors. Different levels of control will be required based on the vapor pressure of the stored fluid and the tank storage capacity. The rule also includes recordkeeping and reporting requirements. Assuming a 5 percent VOC reduction from affected sources, total VOC reductions from this rule are minimal at 0.05 pounds per day.

A public hearing regarding this regulation was held on September 23, 1999, and it was adopted by the MACC on October 28, 1999. It will be effective on February 29, 2000.

(8) Aerospace Manufacture and Rework Facilities [10 CSR 10-5.295]

Rule 10 CSR 10-5.295, “Control of Emissions from Aerospace Manufacture and Rework Facilities,” establishes VOC limits for coatings and solvents used in manufacturing and/or repairing aerospace vehicles and/or components. The RACT requirements as established in this rule are consistent with the control technology recommended in EPA's “Control Techniques Guideline (CTG) for Control of Volatile Organic Compound Emissions from Coating Operations at Aerospace Manufacturing and Rework Operations” (EPA-453/R-97/04), published in December 1997. It is not anticipated that the rule will result in any VOC reductions beyond those achieved by 40 CFR Part 63, Subpart GG, National Emission Standard for Aerospace Manufacture and Rework Facilities, with which the affected facilities must comply.

A public hearing on this regulation was held on September 23, 1999, and it was adopted by the MACC on October 28, 1999. It will be effective on February 29, 2000.

(9) Generic VOC RACT [10 CSR 10-5.520]

Rule 10 CSR 10-5.520, “Control of Emissions from Existing Major Sources,” requires any facility in the St. Louis ozone nonattainment area that is a major source for VOC and is not affected by an industry or source specific RACT regulation to conduct a study of the available control technologies and submit a RACT control proposal to the state. The rule outlines the requirements of the RACT study and the time frame for both submittal and implementation of RACT measures identified through the study. This rule is estimated to reduce VOC emissions by 237 TPY or 0.65 TPD. However, Missouri has applied only 0.58 TPD towards the total required reductions.

A public hearing on this regulation was held on September 23, 1999, and it was adopted by the MACC on October 28, 1999. It will be effective on February 29, 2000.

B. Mobile Sources

(1) Centralized Vehicle I/M [10 CSR 10-5.380]

Corrections to I/M programs are necessary when either: (1) the area's I/M program does not achieve the emission reductions required by EPA's minimum criteria, or (2) the area's program does not meet the standards of its current SIP. The “basic I/M program” currently employed in St. Louis was found to be deficient in meeting several EPA requirements. Problems that EPA cited included: improper testing rates, weak document control and security measures, lack of penalties for illegal inspections, faulty waiver procedures, inadequate data collection and analysis, and no method of determining the motorist compliance rate. Missouri must, at a minimum, correct the identified deficiencies. Any emissions reductions achieved through program corrections are not creditable toward the CAA's 15 percent VOC reduction requirement. Missouri estimates and EPA concurs that the noncreditable VOC reductions attributable to I/M program corrections are 1.58 TPD.

Section 182 of the CAA requires states with moderate ozone nonattainment areas to implement at least a basic I/M program. Missouri will replace the present decentralized “basic I/M program” with a centralized, test-only I/M program. The emissions reductions achieved by the new program will substantially exceed those achievable through implementation of a basic program.

The program will consist of 12 “inspection only” stations. An operating contractor, Environmental Systems Products-Missouri, Inc., will run the emission inspection stations. All vehicles, model year 1971 and newer, registered in St. Charles, Jefferson, and St. Louis counties, and the city of St. Louis are required to be emission inspected. Several types of vehicles will be exempted. These vehicles include pre-1971 model year vehicles, diesel vehicles, alternatively fueled vehicles, motorcycles, motortricycles, agricultural vehicles, and vehicles with a gross vehicle weight rating greater than 8,500 pounds. Model year vehicles 1971 through 1980 will be subject to an idle test. Model year vehicles 1981 and later will be subject to an IM240 test. IM240 is a transient emissions test that requires the subject vehicle to be placed on a dynamometer and put through a driving cycle that involves acceleration and deceleration of the vehicle on a predetermined drive trace. All 1996 and newer vehicles will be subject to a fault code check of the On-Board-Diagnostic system beginning January 1, 2001. A pressure test and purge test will also be required on 1981 and later model year vehicles. The pressure test will consist of only a gas cap check. Vehicle owners whose vehicle fails any portion of the emission inspection will be required to have emissions-related repairs or adjustments made to the vehicle. The vehicle must then pass a subsequent retest. If the vehicle is unable to pass a retest after the owner has incurred emissions-related repair costs a waiver may be granted. The operation of the centralized, test-only I/M program will begin in April 2000.

The reductions associated with the centralized, test-only I/M program are a critical part of the ROPP. MDNR has estimated that 19.82 TPD of VOC emission can be eliminated in the ozone nonattainment area through the implementation of the program. This accounts for over 32 percent of the total 15 percent requirement. MDNR has correctly accounted for the I/M program in the mobile source emissions modeling. The appropriate estimates of vehicle miles traveled were then applied to the mobile source emission factors. The state assumed the I/M program was implemented in 1996 to avoid including reductions associated with fleet turn over which occurred after 1996.

Note that this rulemaking only addresses the state's estimates of the reductions achieved by the I/M program as they relate to the ROPP. EPA is acting on the state's I/M submission, including rule 10 CSR 10-5.380, through a separate rulemaking which will specifically address the program's adherence to the Federal I/M regulations.

(2) Federal RFG (Onroad Mobile Sources)

MDNR has determined that a fuel control strategy is necessary to meet the overall 15% ROPP requirement. Accordingly, MDNR asked the Governor to opt in to the RFG program for the St. Louis ozone nonattainment area.

On June 15 and 16, 1998, a St. Louis Fuels Summit was held at the University of Missouri-St. Louis to discuss fuel control options that would improve air quality in the St. Louis ozone nonattainment area. On July 10, 1998, based on the summit proceedings and further investigation of the issues, Governor Carnahan invoked section 211(k)(6) of the CAA by submitting a letter to EPA requesting that the Missouri portion of the St. Louis ozone nonattainment area be subject to the provisions of the Federal RFG program beginning June 1, 1999.

The final Federal rule (64 FR 10366) triggering the applicability of the Federal RFG regulations was printed in the Federal Register on March 3, 1999, and became effective on April 4, 1999. Consistent with the Governor's request, the sale of conventional gasoline was prohibited beginning June 1, 1999. For a detailed chronology of events leading to the implementation of the RFG program in St. Louis, the reader is referred to our TSD.

Missouri estimates that implementation of the RFG program will reduce VOC emissions in the Missouri portion of the nonattainment area by 12.46 TPD. MDNR has correctly accounted for the RFG program in the mobile source emissions modeling. The MOBILE5b input files can be found in Appendix #12 of the ROPP.

It is important to note that in the ROPP, Missouri accounted only for reductions associated with phase I of the RFG program. Phase I officially ended on December 31, 1999. Phase II of the program officially began on January 1, 2000. Phase II is expected to reduce VOC emissions by an additional 27 percent (across all areas where RFG is required). According to an October, 15, 1999, EPA document titled “Estimated Emission Reduction Benefits of RFG Program, 1999-2000,” EPA estimates that as of January 1, 2000, VOC emissions will be reduced by 3.83 TPD beyond those reductions accounted for in Missouri's ROPP.

(3) Federal RFG (Nonroad Mobile Sources)

The RFG program provides exhaust and evaporative emission reductions from nonroad VOC sources. According to an August 18, 1993, technical memorandum concerning “VOC Emission Benefits from Nonroad Equipment with the use of Federal Phase I Reformulated Gasoline,” issued by Phil Lorang, director, Emission Planning and Strategies Division, Office of Mobile Sources, nonroad exhaust VOC emissions will be reduced by 3.3 percent and nonroad evaporative VOC emissions will be reduced by 3.2 percent with the use of Phase I RFG relative to the adjusted base year inventory. Total nonroad VOC emissions are 64.3 TPD; therefore, Phase I RFG will provide total (exhaust and evaporative) VOC emission reductions of 2.62 TPD from nonroad sources.

(4) Transportation Control Measures (TCM)

One of the requirements of the CAA is that states consider transportation planning activities when developing their SIPs. TCMs can effectively provide for some VOC emissions reductions. Section 174 of the CAA gives the major responsibility for the evaluation, selection, and implementation of TCMs to local officials within a nonattainment area. Local control allows each nonattainment area the opportunity to develop transportation systems that reduce automobile emissions and are compatible with other local transportation goals. The state initially adopted the following TCMs:

a. Work Trip Reductions

1. Activity-center trip reductions

2. Areawide ride sharing programs

b. Transit Improvements

1. Metro-link light rail system

2. Bus enhancements

3. Park-and-ride lots

4. Bicycle facilities

c. Traffic Flow Improvements

1. Signal timing

2. Incident management programs

3. Intersection improvements

d. Gasoline Price Increases

1. Missouri $0.06 fuel tax

Although it was estimated that the adopted TCMs had the potential to reduce VOC emissions by as much as 1.8 TPD, Missouri has only applied one ton per day as credit towards the 15 percent reduction requirement due to the uncertainty associated with the estimation techniques. We concur with Missouri's assessment of the creditable reductions from the above measures.

Additional TCMs are planned in the state's Transportation Improvement Program (TIP) for fiscal years 2000-2002. These TCMs include bus replacements, the addition of bike paths, transit programs, and traffic signalization improvements. The total estimated VOC reductions from these TCMs are 1.08 TPD.

C. Point Sources/Area Sources

(1) Petroleum Liquid Storage, Loading, and Transfer [10 CSR 10-5.220]

Rule 10 CSR 10-5.220, “Control of Petroleum Liquid Storage, Loading, and Transfer,” requires Stage I and Stage II vapor recovery equipment for petroleum facilities in the St. Louis nonattainment area. The rule incorporates the limit imposed by the new Federal NESHAPs for Stage I which limits total organic compound emissions to 10 milligrams per liter of gasoline loaded at gasoline terminals. It also incorporates EPA's December 1991, “Enforcement Guidance for Stage II Vehicle Refueling Control Programs.” The rule establishes permitting procedures for gasoline refueling facilities. It sets requirements for gasoline deliveries to underground storage tanks and requires that vent pipes for storage tanks be equipped with pressure vacuum valves. It also establishes an Advisory Committee to provide a forum for discussion between the regulated community and government agencies.

This regulation will result in significant improvements to the Stage I/Stage II program in the nonattainment area. The regulation coupled with an ongoing parallel effort by the three affected air pollution control agencies will provide consistent inspection and enforcement procedures for all the jurisdictions. In addition the regulation incorporates the recommendations made to Missouri by EPA. We concur with the state's estimate of the VOC emissions reductions achieved by the rule.

(2) Control of Emissions From Solvent Cleanup Operations [10 CSR 10-5.455]

Rule 10 CSR 10-5.455, “Control of Emissions from Solvent Cleanup Operations,” requires large users of cleanup solvents to reduce the amount of emissions from the use of such solvents by 30 percent relative to 1990 levels. This translates to a daily VOC emissions reduction of 0.91 TPD. We concur with the state's emission reduction estimates.

(3) Permanent Plant Closings

Nine manufacturing plants have permanently ceased operations in the nonattainment area. All nine are listed as significant emitters of VOCs in the 1990 base year inventory. The VOC reductions from permanent plant closings total 6951 lb/day or 3.48 TPD. The individual plants and their respective 1990 VOC emissions are listed in our TSD. EPA concurs with the state's estimate of the credit associated with permanent plant closings.

(4) Open Burning Restrictions [10 CSR 10-5.070]

This rule will reduce VOC emissions from the burning of residential wastes primarily in rural areas where open burning is still allowed. The regulation makes it illegal to burn trash or other man-made refuse. The burning of agricultural wastes from farming operations will still be allowed in areas where it is currently permitted. The burning of yard waste such as leaves will be restricted during the ozone season. It is estimated that VOC emissions will be reduced by 2.6 TPD as a result of the rule. EPA concurs with the emissions reduction credit as applied in the ROPP.

(5) Traffic Coatings [10 CSR 10-5.450]

Rule 10 CSR 10-5.450, “Control of Emissions from Traffic Coatings,” limits the VOC content in paints used for traffic coating in the St. Louis nonattainment area to 150 grams of VOC per liter of paint. This limit is identical to that established in EPA's Architectural and Industrial Maintenance (AIM) Coating regulation for which the state has taken credit in the ROPP. As such, the state's rule does not generate any emissions reductions that are applicable to the rate-of-progress requirements of the CAA. Nevertheless, the state has retained the regulation as a component of the revised ROPP.

(6) VOC Emission Reduction From Source-Initiated Reductions

Two sources within the nonattainment area, Leonard's Metal, Inc., and Mallinckrodt Specialty Chemical Company, have reduced their VOC emissions such that they are creditable towards the rate-of-progress requirements of the Act. Leonard's Metal entered into a Consent Agreement with EPA stipulating that the company will reduce its use of trichloroethylene and methyl ethyl ketone. Mallinckrodt shut down two processes associated with the production of tannin.

As noted above, Leonard's Metal entered into a Consent Agreement with EPA. The Agreement requires that the facility reduce its emissions of methyl ethyl ketone by 50 percent and its emissions of trichloroethylene by 100 percent by 1996. To date, the facility has reduced its methyl ethyl ketone consumption by greater than 50 percent. Invoices show a decrease in usage from 13 drums (55 gallons each) to 4 drums per year. The total VOC reductions claimed from Leonard's Metal are 0.04 TPD. EPA concurs with the estimated reductions.

The permanent shutdown of certain processes resulted in 214.7 TPY in VOC reductions from Mallinckrodt; however, the company elected to bank 182.5 TPY consistent with Missouri rule 10 CSR 10-6.060, leaving 32.2 TPY or 0.10 TPD (assuming 312 days of operation) creditable towards the 15% Plan. The reductions are equivalent to 32.2 TPY or 0.10 TPD. These emissions have been permanently retired. EPA concurs with the claimed emissions reduction credit.

(7) Municipal Solid Waste Landfills [10 CSR 10-5.490]

Six municipal solid waste landfills are located in the St. Louis area. Landfills emit VOC generated during the decomposition of solid waste. The 1990 base year inventory indicates the nonmethane VOCs emitted from these six landfills are 1.51 TPD. The MACC adopted rule 10 CSR 10-5.490, “Control of Emissions from Municipal Solid Waste Landfills,” on August 29, 1996, and the rule became effective December 30, 1996. The rule requires the use of gas collection systems which reduce VOC emissions by 98 percent. EPA concurs with the state's estimate that rule 10 CSR 10-5.490 will achieve VOC reductions of 1.48 TPD.

(8) Solvent Metal Cleaning [10 CSR 10-5.300]

Section 172(c)(9) of the CAA requires states with ozone nonattainment areas classified as moderate and above, to adopt contingency measures which are to be implemented immediately if the nonattainment area fails to make reasonable further progress or to attain the NAAQS by the applicable attainment date. On February 3, 1998, after proper notice and public hearing, the MACC adopted a revision to 10 CSR 10-5.300, “Control of Emissions from Solvent Metal Cleaning.” The rule became effective on May 30, 1998, and was submitted to EPA on June 22, 1998. We found the SIP submission complete on August 31, 1998.

VOC emissions from cold cleaning operations are significant within the St. Louis ozone nonattainment area. The 1990 base year point source emissions from cold cleaning are 9.41 TPD of VOC. These VOCs are emitted from 13 different point sources. The 1990 base year area source emissions from cold cleaners are estimated at 12.62 TPD of VOC. The 1996 VOC emissions from area source cold cleaning and point source cold cleaning are 13.85 and 9.29 TPD, respectively.

Previously, this rule only required that certain operating procedures be followed. The amended rule will require solvents used in cold cleaners have a maximum vapor pressure of 2.0 mmHg at 20 degrees Celsius by September 30, 1998. By April 1, 2001, solvents used in cold cleaners cannot have a maximum vapor pressure greater than 1.0 mmHg at 20 degrees Celsius. VOC emissions reductions resulting from the rule amendments are approximately 9.0 TPD; however, Missouri has requested that only 0.64 TPD be applied to the rate-of-progress requirements. Note that EPA is not only approving the estimates of VOC reduction, but is also specifically proposing to approve the revisions to the rule in today's action on the ROPP.

D. Federal Control Measures

(1) AIM Coatings

As required by the CAA, EPA promulgated a Federal rule (63 FR 48848) which was later supplemented (64 FR 34997) to reduce VOC emissions from the use of AIM coatings. The Federal rule affects manufacturers, distributors, retailers, and consumers of various types of paints and coatings. Consistent with EPA guidance, Missouri has estimated that VOC emissions in the St. Louis ozone nonattainment area will be reduced by 20 percent relative to 1990 levels. This translates to VOC emissions reductions of 3.05 TPD.

(2) Control of VOC Emissions From Benzene Transfer Operations

The National Emission Standard for Benzene Emissions from Benzene Transfer Operations, codified at 40 CFR Part 61, subpart BB requires owners or operators of benzene production facilities and bulk terminals to install and maintain control devices which reduce benzene emissions to the atmosphere by 98 percent (by weight) by July 23, 1991. There is only one affected source within the Missouri portion of the St. Louis nonattainment area. For purposes of calculating the available credit from this source of reductions, Missouri has assumed that compliance has been achieved and that the difference in emissions reported in 1990 and 1993 is fully creditable. Emissions were reduced over that time frame by approximately 99.5 percent (0.74 TPD). Although this level of reduction may have occurred, credit for this level of reduction is not allowed. The benzene rule regulates the efficiency of the required emissions control device rather than stipulating a specific emission limitation. The appropriate level of credit should have been determined by calculating the difference between a 98 percent reduction in projected 1996 emissions and the base year emissions from this source. EPA estimates the actual available credit to be slightly higher than the state's estimate. Therefore, EPA will accept the state's claimed emission reduction credit towards the 15 percent reduction requirement.

(3) Control of VOC Emissions From Autobody Refinishing Operations

As required by the CAA, EPA promulgated a Federal rule (63 FR 48806) limiting the VOC content of various autobody refinishing materials. Consistent with EPA guidance, Missouri has estimated that VOC emissions in the St. Louis area will be reduced by 37 percent relative to 1990 levels. Missouri estimated the VOC inventory from the autobody refinishing industry in 1990 was 2.1 TPD after conducting a detailed survey. Hence, the VOC emissions reductions from the Federal rule are approximately 0.78 TPD.

(4) Tier I FMVCP

Section 202 of the CAA requires auto manufacturers to produce vehicles which will meet more stringent vehicle emission standards. These tighter standards are referred to as the “Tier I” standards (56 FR 25724, June 5, 1991). Beginning in model year 1994, passenger cars and light-duty trucks must meet these tighter emission standards. For passenger cars and light-duty trucks up to 6000 lbs., these standards will be phased in as a percentage of overall vehicle production over three years: 40 percent, 80 percent, and 100 percent of the vehicles produced in model year 1994, 1995, and 1996 and thereafter, respectively. For gasoline and diesel light-duty trucks over 6000 lbs., the standards will be phased in with 50 percent of new vehicles in model year 1996 and 100 percent in subsequent years. MDNR estimates and EPA concurs that new vehicles entering the fleet will reduce VOC emissions in the Missouri portion of the nonattainment area by 0.6 TPD.

(5) Hazardous Organic NESHAP (HON)

The HON consists of four subparts setting standards for emissions of hazardous air pollutants (HAP) from the Synthetic Organic Chemical Manufacturing Industry (SOCMI) and six non-SOCMI processes. Many of the HAPs regulated by the HON are also classified as VOCs. Recognizing this overlap, EPA issued a May 6, 1993, policy memorandum from G.T. Helms, Ozone/Carbon Monoxide Programs Branch, indicating that a 5 percent reduction in VOC emissions is expected from sources complying with the HON rule. In anticipation of such reductions, states are allowed to receive 5 percent credit towards the 15 percent reduction requirements of the Act. A single source in the St. Louis nonattainment area is subject to the equipment leak provisions of the HON rule. The 1990 baseline VOC emissions from this facility were estimated at 3380.23 lbs/day during the ozone season. Applying the authorized 5 percent results in emission reduction credit of 169.01 lbs/day or 0.08 TPD.

(6) Gasoline Detergent Additives

The Federal detergent additive regulation was promulgated (59 FR 54706) on November 1, 1994. As of January 1, 1995, virtually all gasoline sold in the United States must contain detergent additives to prevent the accumulation of deposits in engines and fuel systems. Among other emissions impacts, preventing such deposits results in fewer VOC emissions from motor vehicles. According to the “Regulatory Impact Analysis and Regulatory Flexibility Analysis for the Interim Detergent Registration Program and Expected Detergent Certification Program,” generated by EPA's Office of Mobile Sources, the use of gasoline containing the required additives reduced 1996 VOC emissions by 0.7 percent. This translates to a VOC reduction of 0.72 TPD for the Missouri portion of the St. Louis nonattainment area.

(7) VOC Emissions Reductions From Federal Nonroad Small Engine Standards

Phase I of the first national program to reduce emissions from small engines was finalized in the Federal Register on August 2, 1995 (60 FR 34582). The Phase I standards take effect with model year 1997. These standards are expected to result in a reduction in VOC emissions of 32 percent after full implementation. An EPA policy memorandum (“Future Nonroad Emission Reduction Credits for Court-Ordered Nonroad Standard,” November 28, 1994) states that the new small engine standards will reduce 1996 VOC emissions from these sources by 4.5 percent.

Phase II of the program will affect both handheld and nonhandheld small engines. The Phase II standards will be phased in over model years 2002 through 2005. These standards are expected to reduce emissions of VOC and NOX by 30 percent below Phase I levels.

The emissions from small spark-ignited engines can be generally classified under “lawn and garden” equipment. The emission levels from these types of engines are significant in the St. Louis area. The small engine standards are expected to reduce VOC emissions by approximately 1.22 TPD in the St. Louis ozone nonattainment area.

(8) VOC Emission Reductions From Consumer and Commercial Products Solvent Control

Section 183(e) of the CAA required EPA to conduct a study of VOC emissions from consumer and commercial products and report the study's results to Congress. EPA was required to list for regulation those categories of products which account for at least 80 percent of all VOC emissions from consumer and commercial products in ozone nonattainment areas.

On March 15, 1995, EPA submitted its report to Congress. The regulatory schedule was published in the Federal Register on March 23, 1995. EPA promulgated the final consumer and commercial products regulation (63 FR 48819) on September 11, 1998. The regulation applies to 24 categories of household, personal care, and automotive products. For the 24 categories covered by the regulation, EPA estimates a reduction of approximately 20 percent from 1990 levels. Based on our guidance, the state has estimated that VOC emissions in the St. Louis ozone nonattainment area will be reduced by 3.27 TPD.

Policy Review

Section 182(b)(1) of the CAA requires all states having ozone nonattainment areas classified as moderate and above to submit a SIP by November 15, 1993, which describes how VOC emissions in each nonattainment area will be reduced by 15 percent (net of growth) during the first six years after enactment, i.e., by November 15, 1996.

A revised ROPP was adopted by the MACC on October 28, 1999, after proper notice and public hearing. The revised ROPP was submitted to EPA on November 12, 1999. The revised plan has been reviewed with respect to the requirements of the CAA and applicable EPA guidance. EPA believes the revised plan is fully approvable.

The correct procedures were utilized in establishing the 1996 target level of VOC emissions and as is illustrated by the table below, the plan includes specific control measures which have or will in the near future reduce VOC emissions to the degree necessary to meet the emissions target. While the table (as extracted from the ROPP) indicates a slight shortfall (0.04 TPD or 80 pounds per day), EPA believes no shortfall exists because rule 10 CSR 10-5.300, which EPA is proposing to approve in this rulemaking, will achieve substantially more reductions (8.36 TPD) than Missouri applied to the ROPP. In addition there are other measures, such as Phase II of the RFG program, for which the state did not take credit.

1996 Area Source VOC Emissions Including ROPP Controls
Source category | 1996 emissions (lb/day) | 1996 emissions (TPD)
Tank Truck Unloading (Stage I) | 400 | 0.20
Vehicle Refueling (Stage II) | 6,120 | 3.06
Underground Storage Tank—Breathing Losses | 980 | 0.49
Tank Trucks in Transit | 400 | 0.20
Aircraft Refueling | 180 | 0.09
Architectural Surface Coatings | 25,100 | 12.55
Auto Refinishing | 3,320 | 1.66
Traffic/Bridge Coatings | 3,400 | 1.70
Solvent Metal Cleaning—Cold Cleaning | 26,420 | 13.21
Dry Cleaning—Petroleum | 12,320 | 6.16
Graphic Arts | 1,960 | 0.98
Cutback Asphalt | 12,060 | 6.03
Consumer/Commercial Solvent Uses | 26,240 | 13.12
Municipal Waste Landfills | 60 | 0.03
Open Burning—On-Site Incineration | 380 | 0.19
Open Burning—Residential | 1,400 | 0.70
Open Burning—Commercial/Institutional | 380 | 0.19
Commercial Bakeries | 5,280 | 2.64
Breweries | 1,640 | 0.82
Pesticide Application | 6,360 | 3.18
Automobile Fluids | 2,100 | 1.05
Lawn Products | 3,960 | 1.98
Deep Fat Fryers | 980 | 0.49
Charbroil | 7,340 | 3.67
Residential Fuel | 2,020 | 1.01
Commercial/Institutional Fuel | 480 | 0.24
Industrial Fuel | 280 | 0.14
Structural Fires | 2,340 | 1.17
Forest Fires | 560 | 0.28
Total | 153,340 | 77.23

1996 Nonroad Source VOC Emissions Including ROP Plan Controls
Source category | 1996 emissions (lb/day) | 1996 emissions (TPD)
Construction Equipment | 10,078.53 | 4.82
Farm Equipment | 3,462.73 | 1.66
Industrial Equipment | 13,460.48 | 6.44
Lawn Equipment | 53,524.29 | 24.45
Off-Highway Vehicles | 513.93 | 0.25
Commercial & Recreational Vessels | 44,044.15 | 21.08
Aircraft Operations | 8,163.53 | 4.08
Railroad Locomotives | 562.48 | 0.28
Total | 133,810.10 | 63.07

1996 Mobile Source VOC Emissions Including ROP Plan Controls
Source category | 1996 Emissions (TPD)
1996 Mobile Source VOC Emissions (includes I/M and RFG controls) | 71.80
Tier I Standards | −0.60
Transportation Control Measures | −2.08
Federal Gasoline Detergent Additive | −0.72
Total | 68.40

1996 VOC Emissions Inventory of All Sources Including ROPP Controls
Source Category | 1996 VOC Emissions (TPD)
Point | 56.37
Area Source | 77.23
Mobile Source | 68.40
Nonroad Source | 63.07
Total | 265.07
1996 Target Level | 265.11
Difference | −0.04

EPA recognizes that some of the control measures in the plan did not provide for the necessary reduction within the time frame prescribed by the CAA. However, EPA believes that SIPs providing for reductions after the November 15, 1996, deadline are approvable, as long as the control measures result in meeting the target level of emissions as soon as practicable. This position was affirmed in a February 12, 1997, memo from John Seitz, OAQPS Director, to the regional division directors. The memo directed the regions to “Review the SIPs to assure that they contain all measures practicable for the nonattainment area in question that will accelerate to a meaningful extent the date by which the 15 percent reductions are attained.”

Section 3.0 of Missouri's ROPP is dedicated to the evaluation of potential control measures. The state has considered an extensive list of potential control measures and has documented the measures which are not practicable based on considerations such as cost effectiveness and enforceability. Some examples of control measures that were not selected for implementation include rule effectiveness improvements, limits on VOC content of pesticides, and limits on VOC emissions from breweries. Based on reviews of the state's analysis of additional measures and lists of control measures which have been implemented in other nonattainment areas, EPA believes that there are no other measures that Missouri could have implemented that would have substantially accelerated achievement of the target level of VOC emissions. It is important to note that roughly 68 percent of the required control measures contained in Missouri's ROPP have been implemented. Implementation of the most significant outstanding control measure (I/M), which accounts for approximately 30 percent of the required VOC reduction, is scheduled to begin in April 2000. To achieve these reductions, the program will be implemented in two phases, with the second phase beginning in 2002. The state has signed a multiyear contract for operation of the program, all property has been acquired, and test facilities are under construction. EPA is not aware of other practicable measures which will result in comparable emissions reductions that can be implemented sooner than those contained in Missouri's ROPP. Therefore, EPA believes it is reasonable to propose full approval of the program.

Conformity

Transportation conformity requirements are established in section 176(c) of the CAA. Nonattainment areas such as St. Louis must demonstrate that transportation plans and projects do not adversely affect air quality and therefore “conform” to the SIP.

The means of demonstrating conformity and therefore fulfilling section 176(c) is contained in 40 CFR Part 93. This rule requires a nonattainment area to identify motor vehicle emissions budgets in control strategy SIPs, like Missouri's ROPP. These budgets represent an estimate of the amount of ozone precursor motor vehicle emissions an area's transportation plan and program can generate without negatively impacting air quality. Motor vehicle emissions budgets can be used for conformity purposes once EPA finds them adequate according to the adequacy criteria in 40 CFR 93.118(e)(4).

Missouri's ROPP establishes a 1996 mobile source emissions budget for VOC of 69.48 TPD. EPA believes the established budget meets the requirement to identify a motor vehicle emissions budget as described above and believes the budget is adequate for conformity purposes. However, Missouri has established VOC and NOX budgets in its November 12, 1999, submittal of the attainment demonstration. The VOC budget in that submission is 68.73 TPD. On November 29, 1999, EPA announced that it is reviewing the adequacy of these emissions budgets for conformity purposes. EPA will determine the adequacy of Missouri's mobile source emissions budgets in the attainment demonstration in the near future. EPA expects that it will make an adequacy determination on the attainment demonstration budgets before making an adequacy determination on the ROPP budget. If EPA determines that the attainment demonstration budgets are adequate, those budgets will be used for future conformity determinations.

Have the Requirements for Approval of a SIP Revision Been Met?

The state submittal has met the public notice requirements for SIP submissions in accordance with 40 CFR section 51.102. The submittal also satisfied the completeness criteria of 40 CFR Part 51, Appendix V. In addition, as explained above and in more detail in the TSD which is part of this document, the revision meets the substantive SIP requirements of the CAA, including section 110 and Part D of Title I. The revision also conforms to the relevant EPA guidance concerning approval of ROPPs.

What Action is EPA Taking?

Based on a thorough review of Missouri's ROPP relative to the CAA and applicable guidance, we are proposing to approve Missouri rule 10 CSR 10-5.300, “Control of Emissions from Solvent Metal Cleaning,” and all of the emissions reductions listed in the ROPP. EPA is processing this as a proposed action because we are seeking comments with respect to our evaluation of Missouri's ROPP.

Conclusion: On November 12, 1999, Missouri submitted a revised ROPP. The plan established the 1996 target level of VOC emissions for the Missouri portion of the St. Louis ozone nonattainment area at 265.11 TPD. To meet the emissions target, VOC emissions must be reduced by 104.32 TPD. Of the required 104.32 TPD, 64.38 are creditable towards the rate-of-progress requirements of the CAA. Missouri achieves the required reductions through a combination of 19 state and 9 Federal control measures. With one exception (10 CSR 10.300), EPA will act on all applicable state regulations in separate rulemakings. EPA's action on the ROPP is limited to rule 10 CSR 10.300 and the estimated reductions from all control measures. EPA intends to take final action on the ROPP when it takes final action on the control measures on which the ROPP relies.

Administrative Requirements

Under Executive Order 12866 (58 FR 51735, October 4, 1993), this proposed action is not a “significant regulatory action” and therefore is not subject to review by the Office of Management and Budget. This proposed action merely approves state law as meeting Federal requirements and imposes no additional requirements beyond those imposed by state law. Accordingly, the Administrator certifies that this proposed rule will not have a significant economic impact on a substantial number of small entities under the Regulatory Flexibility Act (5 U.S.C. 601 et seq.). Because this rule proposes to approve preexisting requirements under state law and does not impose any additional enforceable duty beyond that required by state law, it does not contain any unfunded mandate or significantly or uniquely affect small governments, as described in the Unfunded Mandates Reform Act of 1995 (Pub. L. 104-4). For the same reason, this proposed rule also does not significantly or uniquely affect the communities of tribal governments, as specified by Executive Order 13084 (63 FR 27655, May 10, 1998). This proposed rule will not have substantial direct effects on the states, on the relationship between the national government and the states, or on the distribution of power and responsibilities among the various levels of government, as specified in Executive Order 13132 (64 FR 43255, August 10, 1999), because it merely approves a state rule implementing a Federal standard, and does not alter the relationship or the distribution of power and responsibilities established in the CAA. This proposed rule also is not subject to Executive Order 13045 (62 FR 19885, April 23, 1997), because it is not economically significant.

In reviewing SIP submissions, EPA's role is to approve state choices, provided that they meet the criteria of the CAA. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This proposed rule does not impose an information collection burden under the provisions of the Paperwork Reduction Act of 1995 (44 U.S.C. 3501 et seq.).

List of Subjects 40 CFR Part 52

Environmental protection, Air pollution control, Carbon monoxide, Hydrocarbons, Incorporation by reference, Intergovernmental relations, Lead, Nitrogen dioxide, Ozone, Particulate matter, Reporting and recordkeeping requirements, Sulfur oxides.

Dated: February 8, 2000.
Dennis Grams,
Regional Administrator, Region 7.

[FR Doc. 00-3470 Filed 2-16-00; 8:45 am]

BILLING CODE 6560-50-P